DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Educational Partnership Program with Minority Serving Institutions (EPP/MSI), Undergraduate Scholarship Program (USP), Cooperative Science Centers (CSCs), and Ernest F. Hollings Undergraduate Scholar.

OMB Control Number: 0648-0568.

Form Number(s): None.

Type of Request: Regular (request for a revision and extension of a currently information collection).

Number of Respondents: 2,304.

Average Hours per Response: Undergraduate Scholarship Program (USP) application: 12 hours; Undergraduate Scholarship Program references: 1 hour; Alumni Update form: 6 minutes; Student & Performance Measures Tracking System (SPMTS) form: 28 hours; Student Training Record form: 0.5 hours.

Burden Hours: 11,129.

Needs and Uses: The Administrator of the National Oceanic and Atmospheric Administration (NOAA) is authorized by section 4002 of the America COMPETES Act, Public Law 110-69, to establish and administer a Graduate Sciences Program and two undergraduate scholarship programs to enhance understanding of ocean, coastal, Great Lakes, and atmospheric science and stewardship by the general public and other coastal stakeholders, including underrepresented groups in ocean and atmospheric science and policy careers. In addition, NOAA's Administrator is authorized by section 214 of the Consolidated Appropriations Act, 2005, Public Law 108-447, to establish and administer the Ernest F. Hollings Undergraduate Scholarship Program to support undergraduate studies in oceanic and atmospheric science, research, technology, and education that support NOAA's mission and programs.

The National Oceanic and Atmospheric Administration (NOAA) Office of Education (OEd) collects, evaluates, and assesses student data and information for the purpose of selecting successful candidates, generating internal NOAA reports, and articles to demonstrate the success of its program.

The purpose of the OEd Educational Partnership Program (EPP) with Minority Serving Institutions is to educate, train and graduate students in NOAA-mission sciences. OEd EPP is strongly committed to broadening the participation of Minority Serving Institutions (MSIs) such as Historically Black Colleges and Universities, Hispanic Serving Institutions, Indian Tribally Controlled Colleges and Universities, Alaska Native-Serving Institutions, and Native Hawaiian-Serving Institutions. NOAA's OEd EPP/MSI partnership is comprised of four program components: The Undergraduate Scholarship Program (USP); the Graduate Sciences Program (GSP); the Environmental Entrepreneurship Program (EEP); and the Cooperative Science Center (CSC).

The OEd requires applicants to NOAA's Undergraduate Scholarship Programs to complete an application in order to be considered. The application package requires two faculty and/or academic advisors to complete a NOAA student scholar reference form in support of the scholarship application. The Dr. Nancy Foster Scholarship Program and the NMFS Recruiting, Training and Research Program also collect student data for their programs and are also covered by this notice. Undergraduate scholarship recipients are required to complete a Student Scholarship Training Record to track their time, attendance, and accomplishments during their internships. NOAA OEd student scholar alumni are also requested to provide information to NOAA for internal tracking purposes. This information informs NOAA whether NOAA-funded students pursue and complete post-graduate NOAA-related science degrees, are employed by NOAA or a NOAA contractor, or in fields related to NOAA's mission. NOAA OEd grant recipients are required to update the student tracker database with the required student information in order to assess compliance with NOAA OEd's performance measures.

The collected data supports NOAA OEd's program performance measures. To measure the impact of OEd programs, the data collected are compared to the available data in the national education databases (e.g., National Science Foundation and National Center for Education Statistics) and NOAA workforce management database. Furthermore, the student data collection identifies degree pipeline areas (BS, MS, or Ph.D.) and where OEd and its academic partners may target recruitment for its' NOAA-related science educational and training programs. NOAA scholarship programs produce a pool of qualified candidates that may be hired by NOAA and help to sustain a world-class NOAA organization.

Affected Public: Individuals or households; Business or other for-profit; Not-for-Profit institutions; and State, Local or Tribal Government.

Frequency: Annually: USP application and references; On occasion: Alumni Update form; Semi-annually: SPMTS form; Bi-weekly during the summer: Student Training Record form.

Respondent's Obligation: Voluntary: USP application and references, and Alumni Update form; Mandatory: SPMTS form and Student Training Record form.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-03455 Filed 2-20-20; 8:45 am]

BILLING CODE 3510-12-P